DEPARTMENT OF ENERGY

Federal Energy Regulatory Commission

[Docket No. CP20-527-000]

Columbia Gulf Transmission, LLC; Notice of Availability of The Draft Environmental Impact Statement for The Proposed East Lateral Xpress Project

The staff of the Federal Energy Regulatory Commission (FERC or Commission) has prepared a draft environmental impact statement (EIS) for the East Lateral XPress Project (Project), proposed by Columbia Gulf Transmission, LLC (Columbia Gulf) in the above-referenced docket. Columbia Gulf requests authorization to construct and operate natural gas transmission facilities in Louisiana. The Project is designed to provide a total of 725 million standard cubic feet per day of firm transportation capacity, through a combination of incremental and existing capacity on Columbia Gulf's interstate natural gas pipeline system, to an interconnect with Venture Global Gator Express, LLC, for ultimate delivery as feed gas for Venture Global Plaquemines LNG, LLC's facility in Plaquemines Parish.

The draft EIS responds to comments that were received on the Commission's March 16, 2021 Environmental Assessment (EA) ¹ and discloses downstream greenhouse gas emissions for the Project. With the exception of climate change impacts, the FERC staff concludes that approval of the proposed Project, with the mitigation measures recommended in this EIS, would not result in significant environmental impacts. FERC staff continues to be unable to determine significance with regards to climate change impacts.

¹ The Project's Environmental Assessment is available on eLibrary under accession no. 20210316-3010.

The draft EIS incorporates the above referenced EA, which addressed the potential environmental effects of the construction and operation of the following Project facilities:

• 8.1 miles of 30-inch-diameter pipeline lateral within Barataria Bay in Jefferson and Plaquemines Parish, Louisiana;

• Centerville Compressor Station—a new 23,470-horsepower (hp) compressor station at an abandoned Columbia Gulf compressor station site in St. Mary Parish, Louisiana;

• Golden Meadow Compressor Station—a new 23,470-hp compressor station adjacent to an existing tie-in facility in Lafourche Parish, Louisiana;

• a point of delivery meter station in Plaquemines Parish, Louisiana; and

• a tie-in facility with two mainline valves and other appurtenances on a new platform in Barataria Bay, Jefferson Parish, Louisiana.

The Commission mailed a copy of the Notice of Availability of the Draft Environmental Impact Statement for the Proposed East Lateral Xpress Project to federal, state, and local government representatives and agencies; elected officials; environmental and public interest groups; Native American tribes; potentially affected landowners and other interested individuals and groups; and newspapers and libraries in the Project area. The draft EIS is only available in electronic format. It may be viewed and downloaded from the FERC's website (www.ferc.gov), on the natural gas environmental documents page (https://www.ferc.gov/industries-data/natural-gas/environment/environmental-documents). In addition, the draft EIS may be accessed by using the eLibrary link on the FERC's website. Click on the eLibrary link (https://elibrary.ferc.gov/eLibrary/search) select “General Search” and enter the docket number in the “Docket Number” field (i.e., CP20-527). Be sure you have selected an appropriate date range. For assistance, please contact FERC Online Support at FercOnlineSupport@ferc.gov or toll free at (866) 208-3676, or for TTY, contact (202) 502-8659.

The draft EIS is not a decision document. It presents Commission staff's independent analysis of the environmental issues for the Commission to consider when addressing the merits of all issues in this proceeding. Any person wishing to comment on the draft EIS may do so. Your comments should focus on the draft EIS's disclosure and discussion of potential environmental effects, including climate impacts, measures to avoid or lessen environmental impacts, and completeness of the submitted alternatives, information and analyses. To ensure consideration of your comments on the proposal in the final EIS, it is important that the Commission receive your comments on or before 5:00 p.m. Eastern Time on August 16, 2021.

For your convenience, there are three methods you can use to submit your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can file your comments electronically by using the eFiling feature on the Commission's website (www.ferc.gov) under the link to FERC Online. With eFiling, you can provide comments in a variety of formats by attaching them as a file with your submission. New eFiling users must first create an account by clicking on “eRegister.” If you are filing a comment on a particular project, please select “Comment on a Filing” as the filing type; or

(3) You can file a paper copy of your comments by mailing them to the Commission. Be sure to reference the project docket number (CP20-527-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Any person seeking to become a party to the proceeding must file a motion to intervene pursuant to Rule 214 of the Commission's Rules of Practice and Procedures (18 CFR part 385.214). Motions to intervene are more fully described at https://www.ferc.gov/ferc-online/ferc-online/how-guides. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions?

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: June 25, 2021.
Kimberly D. Bose,
Secretary.

[FR Doc. 2021-14067 Filed 6-30-21; 8:45 am]

BILLING CODE 6717-01-P